SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA. Fax: 202-395-6974.

(SSA), Social Security Administration, DCFAM, Attn: Reports Clearance Officer, 1333 Annex Building, 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Letter to Employer Requesting Wage Information—20 CFR 404.726—0960-0138. The information collected on Form SSA-L4201 is used by SSA to collect wage information from employers to establish and/or verify wage information for Supplemental Security Income (SSI) claimants and beneficiaries. Form SSA-L4201 is also used to determine eligibility and proper payment for SSI applicants/recipients. The respondents are employers of applicants and recipients of SSI payments.

Type of Request: Revision of an OMB-approved information collection.

Number of Respondents: 133,000.

Frequency of Response: 1.

Average Burden Per Response: 30 minutes.

Estimated Annual Burden: 66,500 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Workers' Compensation/Public Disability Questionnaire—20 CFR 404.408-0960-0247. Section 224 of the Social Security Act provides for the reduction of disability insurance benefits (DIB) when the combination of DIB and any workers' compensation (WC) and/or certain Federal, State or local public disability benefits (PDB) exceeds 80% of the worker's predisability earnings. Form SSA-546 is used to collect the data necessary to determine whether or not the worker's receipt of WC/PDB payments will cause a reduction of DIB. The respondents are applicants for the Title II DIB.

Type of Request: Extension of an OMB-approved information collection.

Number of Respondents: 100,000.

Frequency of Response: 1.

Average Burden Per Response: 15 minutes.

Estimated Annual Burden: 25,000 hours.

2. Medicaid Use Report—20 CFR 416.268-0960-0267. The information required by this regulation is used by SSA to determine if an individual is entitled to special Title XVI Supplemental Security Income (SSI) payments and, consequently, to Medicaid benefits. The Respondents are SSI recipients whose payments were stopped based on earnings.

Type of Request: Extension of an OMB-approved information collection.

Number of Respondents: 60,000.

Frequency of Response: 1.

Average Burden Per Response: 3 minutes.

Estimated Annual Burden: 3,000 hours.

6. Supplemental Security System (SSI) Claim Information Notice—20 CFR 416.210-0960-0324. Form SSA-L8050-U3 is used by SSA to ensure that all sources of potential income that can be used to provide for an SSI beneficiary's own support and maintenance are utilized. SSI is intended to supplement other income an individual has available. Respondents are businesses and applicants/recipients of SSI who may be eligible for benefits from public or private programs.

Type of Request: Extension of an OMB-approved information collection.

Number of Respondents: 7,500.

Frequency of Response: 1.

Average Burden Per Response: 10 minutes.

Estimated Annual Burden: 1,250 hours.

7. Certification of Low Birth Weight for SSI Eligibility—20 CFR 416.931, 416.926a (m)(7) & (8) and 416.924-0960-NEW. Form SSA-3830 is designed to assist hospitals and claimants who file on behalf of low birth weight infants in providing local field offices (FOs) and Disability Determination Services (DDSs) with medical information for determining disability of low birth weight infants. FOs use the forms as protective filing statements, and the medical information for making presumptive disability findings, which allow expedited payment to eligible claimants. DDSs use the medical information to formally determine disability and to establish the most appropriate continuing disability review diaries. The respondents are hospitals that have information identifying low birth weight babies and medical conditions those babies may have. We estimate it will take 10 to 15 minutes to complete the form. Below, we use the higher number for our public burden computation.

Type of Request: New information collection.

Number of Respondents: 24,000.

Frequency of Response: 1.

Average Burden Per Response: 15 minutes.

Estimated Annual Burden: 6,000 hours.

8. Reporting Changes That Affect Your Social Security Payment—20 CFR 404.301-305, .310-311, .330-.333, .335-.341, .350-.352, .370-.371, .401-.402, .408(a), .421-.425, .428-.430, .434-.437, .439-.441, .446-.447, .450-.455, .468—0960-0073. SSA uses the information collected on Form SSA-1425 to determine continuing entitlement to Title II Social Security benefits and to determine the proper benefit amount. The respondents are Social Security beneficiaries receiving SSA retirement, disability or survivor's auxiliary benefits who need to report an event that could affect payments.

Type of Request: Extension of an OMB-approved information collection.

Number of Respondents: 70,000.

Frequency of Response: 1.

Average Burden Per Response: 5 minutes.

Estimated Annual Burden: 5,833 hours.

9. National Employment Activity and Disability Survey—0960-0666.

Background: The Ticket to Work (TTW) program was established by the Ticket to Work and Work Incentives Improvement Act of 1999. The program will provide eligible Social Security Disability Insurance (SSDI) and SSI disability beneficiaries with a Ticket, which can be used to obtain vocational rehabilitation (VR) or employment services through participating providers, called Employment Networks (ENs). The goal of the TTW program is to assist participants in returning to work at a level above the Substantial Gainful Activity (SGA) level. The program is expected to increase beneficiary demand for employment-related services and activities. It is also expected to increase the number and diversity of providers in response to the less restrictive participation requirements and increased consumer demand for services.

The National Employment Activity and Disability Survey: The National Employment Activity and Disability Survey will collect data on the work-related activities of SSI and SSDI beneficiaries as the TTW program, and other initiatives designed to improve beneficiary employment outcomes, are implemented. The TTW Survey is specifically designed to be a significant resource for the formal evaluation of TTW, but SSA anticipates that the survey will provide useful information for a variety of evaluation and policy analysis purposes, especially related to current efforts that attempt to improve return to work. The survey questionnaire focuses on information about beneficiaries and their work-related activities that cannot be obtained from SSA's administrative records. The survey will provide information about: (1) Beneficiaries who assign their Tickets to ENs, and their experience in the program; (2) beneficiaries who do not assign their Tickets, and the reasons why they do not, including involuntary non-participants; (3) the employment outcomes of Ticket users and other beneficiaries; and (4) the use of employment services by Ticket users and other beneficiaries. The respondents will be selected from SSI and SSDI disabled beneficiaries who meet the Ticket to Work program eligibility requirements.

Type of Request: Extension of an OMB-approved information collection.

Beneficiary Survey Data Collection
Survey activity | Respondents | Frequency of response | Average time (minutes) | Total burden hours
National Beneficiary Sample | 2,400 |  | 45 | 1,800
TTW Participant Sample (Baseline) | 2,000 |  | 55 | 1,833
TTW Participant Sample (Follow-up) | 1,772 |  | 45 | 1,329
Total for Survey Data | 6,172 |  |  | 4,962
Service Provider Qualitative Collection
Site Visits | 10 |  | 6 | 60
Focus Groups | 12 |  | 40 | 480
Phone Interviews | 130 |  | 2 | 260
Total for Qualitative Data | 152 |  |  | 800
Total Burden Hours for all Collection Activities |  |  |  | 5,762

Dated: February 14, 2006.
Elizabeth A. Davidson,
Reports Clearance Officer, Social Security Administration.

[FR Doc. E6-2397 Filed 2-17-06; 8:45 am]

BILLING CODE 4191-02-P